DEPARTMENT OF AGRICULTURE

Submission for OMB Review; Comment Request

January 29, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Spring Viremia of Carp-Susceptible Finfish and their Gametes, and Diagnostic Specimens Importation Permits.

OMB Control Number: 0579-0301.

Summary of Collection: The Animal and Plant Health Inspection Service (APHIS) of the United States Department of Agriculture (USDA) is responsible for the development and administration of regulations intended to protect the health of U.S. farmed fish populations. APHIS is adding import restrictions for certain species of finfish that are susceptible to spring viremia of carp disease (SVC). SVC is a disease of certain species of finfish, caused by an eponymous rhabdovirus. SVC is considered extremely contagious, and there are currently no U.S. approved vaccines or treatments for the virus.

Need and Use of the Information: APHIS has developed import requirements for SVC-susceptible fish species. This necessitates the use of several information collection activities, including application by U.S. importers for an import permit for SVC-susceptible fish species, or for diagnostic samples containing viable SVC virus. APHIS will also require that importers obtain a health certificate from the exporting facility indicating that the exporting country, zone, or aquaculture establishment is in compliance with OIE guidelines to demonstrate freedom from SVC. Without the information, APHIS would be unable to effectively protect farmed fish populations that are known to be susceptible to SVC from imports of finfish or their gametes infected with SVC virus.

Description of Respondents: Farms; Individual or households.

Number of Respondents: 12,010.

Frequency of Responses: Recordkeeping; Reporting: On occasion.

Total Burden Hours: 5,969.

Ruth Brown,
Departmental Information Collection Clearance Officer.

[FR Doc. E7-1630 Filed 1-31-07; 8:45 am]

BILLING CODE 3410-34-P